DEPARTMENT OF TRANSPORTATION

Federal Highway Administration

Notice to Rescind the Notice of Intent to Prepare an Environmental Impact Statement (EIS), Kootenai County, ID

AGENCY: Federal Highway Administration.

ACTION: Rescind Notice of Intent to prepare an Environmental Impact Statement.

SUMMARY: The FHWA is issuing this notice to advise the public that the Notice of Intent published on May 27, 2005 (Volume 70, Number 102) to prepare an EIS for a proposed highway project in Kootenai County, Idaho is being rescinded.

FOR FURTHER INFORMATION CONTACT: Mr. John Perry, Field Operations Engineer, Federal Highway Administration, 3050 Lakeharbor Lane, Suite 126, Boise, Idaho 83703, Telephone: (208) 334-9180, or Mr. Michael Hartz, Sr. Environmental Planner, Idaho Transportation Department District 1, 600 W. Prairie Ave, Coeur d'Alene, Idaho 83815-8764, Telephone: (208) 772-8018.

SUPPLEMENTARY INFORMATION: The Federal Highway Administration (FHWA), in cooperation with Idaho Transportation Department (ITD), published a Notice of Intent (NOI) on May 27, 2005 (Volume 70, Number 102) to prepare an Environmental Impact Statement (EIS) on a proposal to improve Interstate 90 (I-90) in Kootenai County, Idaho. The proposed improvements involved access and mobility enhancements on I-90 between the Spokane Street interchange to the west at approximately milepost (MP 4.3) and State Highway (SH) 41 interchange (approximately MP 7.6) to the east for a distance of about three (3) miles. The purpose of this project was to provide transportation system solutions on the I-90 corridor, from the Spokane Street Interchange through the SH 41 Interchange, that would enhance access and cross-freeway mobility, improve traffic operations within the corridor, and provide safe and efficient movement of people, goods and services, while giving full consideration to local roads as primary transportation corridors. This project was needed because congestion and safety concerns were rising within the project corridor and travel times for local and through traffic had been increasing. These conditions arose from increased and projected increased regional travel demand due to planned community growth, limited local city street connectivity to and across I-90, and mobility limitations at existing interchanges. Ten alternatives considered included (a) taking no action, (b) applying enhanced Transportation Systems and Transportation Demand Management methods on existing transportation systems, (c) Transit, and (d) seven combinations of actions that included some or all of the following: interchange modifications at the Spokane Street Interchange, interchange modifications at the SH 41 Interchange, expansion of SH 41 to six lanes; interchange modifications at the Seltice Way Interchange, a new interchange or an I-90 grade separation at Greensferry Road, an I-90 grade separation at Syringa Street, applying access management on Seltice Way, and auxiliary lanes and/or collector distributor roads on I-90 from the Spokane Street Interchange to the SH 41 Interchange.

A Draft EIS was published, and a Public Hearing was held on Oct, 29, 2008. A preferred alternative was identified that consisted of a combination of several improvements at the SH 41 Interchange, Spokane St. Interchange, as well as a new Greensferry Interchange, combined with removal of the half interchange at Seltice. Impacts to the social, economic, and natural environment were minimal. After receiving minor comments during the public review period, work on the Final EIS commenced, along with preparation of the Interchange Justification Report (IJR). At that point in the project, an update to the regional traffic model was released. The updated regional traffic model showed a significant drop in the projected traffic volumes and congestion within the project corridor that has resulted in the project's purpose and need being satisfied with minor safety and congestion improvements which may include improvements to existing interchanges and local intersections to meet the future needs of the corridor. These safety and congestion improvements are not anticipated to result in significant impacts on the human or natural environment. The NOI is being rescinded due to the significant decrease in the project scope and the low potential for significant impacts from the alternatives being considered.

If, at a future time, FHWA determines that the proposed improvements are likely to have a significant impact on the environment, a new NOI to prepare an EIS will be published.

To ensure that the full range of issues related are identified, comments or questions regarding this action to rescind the NOI are invited from all interested parties. These comments or questions should be directed to FHWA or ITD at the addresses provided above.

Authority: 23 CFR 771.123.

Dated: June 26, 2012.
Peter J. Hartman,
Division Administrator, FHWA Idaho Division.

[FR Doc. 2012-16112 Filed 6-29-12; 8:45 am]

BILLING CODE 4910-22-P